DEPARTMENT OF ENERGY

Federal Energy Regulatory Commission

[Docket No. CP02-385-000]

Williams Gas Pipelines Central, Inc.; Notice of Request Under Blanket Authorization

June 17, 2002.

Take notice that on June 10, 2002, Williams Gas Pipelines Central, Inc. (Williams), P.O. Box 20008, Owensboro, Kentucky 42304, filed in Docket No. CP02-385-000 a request pursuant to Sections 157.205 and 157.211(b) of the Commission's Regulations under the Natural Gas Act (18 CFR 157.205, 157.211(b)) for authorization to construct and operate 13 miles of 30-inch and 24-inch pipeline and a 12-inch delivery meter station with appurtenant facilities located in Oklahoma County, Oklahoma, under Williams's blanket certificate issued in Docket No. CP82-479-000 pursuant to Section 7(c) of the Natural Gas Act, all as more fully set forth in the request.

Copies of this filing are on file with the Commission and are available for public inspection. This filing may also be viewed on the web at http://www.ferc.gov using the “Rims” link, select “Docket#” and follow the instructions (call 202-208-2222 for assistance).

Williams requests authorization to construct and operate the facilities to serve Redbud Energy, LP (Redbud). Williams states that it would use the facilities to transport up to 51,980 MMBtu equivalent of natural gas per day. Williams estimates the cost of the facilities to be $13,008,000. Williams states further that the proposal would have no significant effect on Williams' peak day and annual deliveries, and service to Redbud through the new delivery point would be accomplished without detriment to Williams' other existing customers.

Any questions regarding the application should be directed to David N. Roberts, Manager of Certificates and Tarriffs, at: (713) 853-6549, Williams Gas Pipelines Central, Inc., P.O. Box 20009, Owensboro, Kentucky 42304.

Any person or the Commission's staff may, within 45 days after issuance of the instant notice by the Commission, file pursuant to Rule 214 of the Commission's Procedural Rules (18 CFR 385.214) a motion to intervene or notice of intervention and, pursuant to Section 157.205 of the Regulations under the Natural Gas Act (18 CFR 157.205), a protest to the request. If no protest is filed within the time allowed therefor, the proposed activity shall be deemed to be authorized effective the day after the time allowed for filing a protest. If a protest is filed and not withdrawn within 30 days after the allowed for filing a protest, the instant request shall be treated as an application for authorization pursuant to section 7 of the Natural Gas Act.

Comments, protests and interventions may be filed electronically via the Internet in lieu of paper. See, 18 CFR385.2001(a)(1)(iii) and the instructions on the Commission's web site under the “e-filing” link.

Linwood A. Watson, Jr.,
Deputy Secretary.

[FR Doc. 02-15687 Filed 6-20-02; 8:45 am]

BILLING CODE 6717-01-P